DEPARTMENT OF ENERGY

Federal Energy Regulatory Commission

[Docket Nos. ER22-2162-001, ER22-2162-002]

Deseret Generation & Transmission Co-operative, Inc.; Notice of Request for Deferral of Effective Date

On May 19, 2025, Deseret Generation & Transmission Co-operative, Inc. (Deseret) filed a request for deferral of the July 12, 2025 effective date of its Open Access Transmission Tariff (Tariff) Attachment T—Transmission Line Ratings accepted by the Commission ¹ in compliance with Order Nos. 881 and 881-A.² Deseret requests that the Commission grant an extension of the deadline to implement its Tariff revisions from July 12, 2025 to a future date that aligns with California Independent System Operator Corporation's (CAISO) and the Western Area Power Administration's (Western) ability to integrate Ambient Adjusted Rates (AAR's) into their respective network models. Deseret states that it must work with third-party vendors to design and implement systems that will be compatible with systems in CAISO and Western that are under development and that will not be functional to meet its compliance deadline.

¹ Deseret Generation & Transmission Co-operative, Inc., 184 FERC ¶ 61,174 (2023).

² Managing Transmission Line Ratings, Order No. 881, 177 FERC ¶ 61,179 (2021), order addressing arguments raised on reh'g, Order No. 881-A, 179 FERC ¶ 61,125 (2022).

Answers to the motion must be filed by 5 p.m. Eastern Time on June 2, 2025.

Dated: May 27, 2025.
Carlos D. Clay,
Deputy Secretary.

[FR Doc. 2025-09921 Filed 5-30-25; 8:45 am]

BILLING CODE 6717-01-P